SECURITIES AND EXCHANGE COMMISSION

17 CFR Part 200

[Release No. 34-44397]

Delegation of Authority to the Director of the Division of Market Regulation

AGENCY: Securities and Exchange Commission.

ACTION: Final rule.

SUMMARY: The Securities and Exchange Commission is amending its rules to delegate to the Director of the Division of Market Regulation authority to publish notice of a filing of an application for registration as a national securities exchange, or for exemption from registration based on limited volume, and amendments to such applications filed under section 6 of the Securities Exchange Act of 1934. This delegation will facilitate and expedite the process of exchange registration and exemption from registration based on limited volume. This delegation will not include the authority to approve an application for registration as a national securities exchange or exemption from registration based on limited volume.

EFFECTIVE DATE: June 13, 2001.

FOR FURTHER INFORMATION CONTACT: Rebekah Liu, Special Counsel, at (202) 942-0133; Susie Cho, Attorney, at (202) 942-0748, Office of Market Supervision, Division of Market Regulation, Securities and Exchange Commission, 450 Fifth Street, NW., Washington, DC 20549-1001.

SUPPLEMENTARY INFORMATION: The Securities and Exchange Commission (“Commission”) has adopted an amendment to Rule 30-3 of its Rules of Organization and Program Management governing Delegations of Authority to the Director of the Division of Market Regulation (“Director”).¹ The amendment adds new paragraph (a)(73) to Rule 30-3 authorizing the Director to publish notice of a filing of an application for registration as a national securities exchange, or for exemption from registration as a national securities exchange based on limited volume, and amendments to such applications filed under section 6 of the Securities Exchange Act of 1934 (“Exchange Act”).²

¹ 17 CFR 200.30-3.

² 15 U.S.C. 78f.

Section 6(a) of the Exchange Act provides that an exchange may be registered as a national securities exchange “by filing with the Commission an application for registration in such form as the Commission, by rule, may prescribe containing the rules of the exchange and such other information and documents as the Commission, by rule, may prescribe as necessary or appropriate in the public interest or for the protection of investors.” ³ Rule 6a-1 ⁴ specifies that an application for registration as a national securities exchange, or for exemption from such registration based on limited volume, shall be filed on Form 1.⁵

³ 15 U.S.C. 78f(a).

⁴ 17 CFR 240.6a-1.

⁵ 17 CFR 249.1.

The delegation of authority to the Director to publish a notice of filing of an application for registration, or an exemption from registration based on limited volume, and amendments to such applications filed pursuant to Rule 6a-1, is intended to conserve Commission resources by permitting Division staff to review and publish for comment a notice of filing of an application and any amendments to such applications on a more expedited basis. The Division has received several applications for registration as a national securities exchange which, after careful review by Division staff, must be published for comment. In addition, the Division anticipates that, when an application for registration as a national securities exchange or exemption from registration based on limited volume is filed and published for comment, there will be significant comment on the application and amendments to the application will be necessary. Granting the Division delegated authority to publish amendments will provide the Division with greater flexibility to respond to any commenters' concerns, and may expedite the process of publishing amendments to the Form 1. Nevertheless, the staff may submit matters to the Commission for consideration as it deems appropriate. The Commission retains authority to approve an application for exchange registration or exemption from exchange registration based on limited volume.

The Commission finds, in accordance with section 553(b)(3)(A) of the Administrative Procedures Act,⁶ that this amendment relates solely to agency organization, procedure, or practice, and does not relate to a substantive rule. Accordingly, notice, opportunity for public comment, and publication of the amendment prior to its effective date are unnecessary.

⁶ 5 U.S.C. 553(b)(A).

List of Subjects in 17 CFR Part 200

Administrative practice and procedure, Authority delegations (Government agencies), Organization and functions (Government agencies).

Text of Amendment

In accordance with the preamble, the Commission hereby amends Title 17, Chapter II of the Code of Federal Regulations as follows:

PART 200—ORGANIZATION; CONDUCT AND ETHICS; AND INFORMATION AND REQUESTS

Subpart A—Organization and Program Management

1. The authority citation for Part 200, Subpart A, continues to read, in part, as follows:

Authority: 15 U.S.C. 77s, 78d-1, 78d-2, 78w, 78ll(d), 78mm, 79t, 77sss, 80a-37, 80b-11, unless otherwise noted.

* * * * *

2. Section 200.30-3 is amended by adding paragraph (a)(73) to read as follows:

§ 200.30-3 Delegation of authority to Director of Division of Market Regulation.

* * * * *

(a) * * *

(73) Pursuant to section 6(a) of the Act, 15 U.S.C. 78f(a), and Rule 6a-1 thereunder, 17 CFR 240.6a-1:

(i) To publish a notice of filing of an application for registration as a national securities exchange, or for exemption from registration based on limited volume; and

(ii) To publish amendments to an application for registration as a national securities exchange, or for exemption from registration based on limited volume.

* * * * *

Dated: June 7, 2001.
By the Commission.
Jonathan G. Katz,
Secretary.

[FR Doc. 01-14830 Filed 6-12-01; 8:45 am]

BILLING CODE 8010-01-P